DEPARTMENT OF JUSTICE

Notice of Lodging of Settlement Agreement Under the Comprehensive Environmental Response, Compensation, and Liability Act

Notice is hereby given that on February 15, 2008, a proposed Consent Decree in United States v. Kennecott Utah Copper Corporation, Case No. 2:08-cv-122, was lodged with the United States District Court for the District of Utah.

The proposed Consent Decree resolves claims alleged by the United States, on behalf of the United States Department of the Interior (“DOI”), Fish and Wildlife Service (“FWS”), against the Kennecott Utah Copper Corporation (“KUCC”), under the Comprehensive Environmental Response, Compensation, and Liability Act (“CERCLA”), 42 U.S.C. 9601, et seq. The claim, as alleged in the Complaint, seeks recovery of Natural Resource Damages, including compensation to the public for interim losses resulting from release of hazardous substances from KUCC's mining, smelter, refinery and mill tailings facility located near Magna, Utah. The proposed Consent Decree provides that the KUCC will transfer approximately 617 acres of property known as “The Lake Point Wetlands Property,” and associated water rights to The Nature Conservatory (“TNC”). Additionally, KUCC will pay an endowment of $175,000 for management of The Lake Point Wetlands Property, implement a Restoration Plan for The Lake Point Wetlands Property, pay $113,800 in reimbursement of federal damage assessment costs, and pay $52,000 for FWS management oversight of The Lake Point Wetlands Property and restoration planning.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States and D.J. Ref. 90-11-3-06999.

During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number: (202) 514-0097, phone confirmation number: (202) 514-1547. In requesting a copy from the Consent Decree Library, please enclose a check in the amount of $4.75 (25 cents per page reproduction cost) payable to the “U.S. Treasury” or, if by e-mail or fax, forward a check in that amount to the Consent Decree Library at the stated address. A copy of the Consent Decree may be reviewed at the Office of the United States Attorney for the District of Utah, 185 South State Street, Suite 400, Salt Lake City, Utah 84111; telephone confirmation number: (801) 524-5682.

Robert Brook,
Assistant Section Chief, Environmental Enforcement Section, Environment and Natural Resources Division, U.S. Department of Justice.

[FR Doc. E8-3231 Filed 2-21-08; 8:45 am]

BILLING CODE 4410-15-P